DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Maternal and Child Health Bureau Performance Measures for Discretionary Grants (OMB No. 0915-0298)—[Revision]

The Health Resources and Services Administration's (HRSA) Maternal and Child Health Bureau (MCHB) intends to continue to collect performance data for Special Projects of Regional and National Significance (SPRANS), Community Integrated Service Systems (CISS), and other grant programs administered by MCHB.

HRSA's MCHB proposes to continue using reporting requirements for SPRANS projects, CISS projects, and other grant programs administered by MCHB, including national performance measures, previously approved by OMB, and in accordance with the “Government Performance and Results Act (GPRA) of 1993” (Pub. L. 103-62). This Act requires the establishment of measurable goals for Federal Programs that can be reported as part of the budgetary process, thus linking funding decisions with performance. Performance measures for MCHB discretionary grants were initially approved in January 2003. Approval from OMB is being sought to continue the use of these measures. Some of these measures are specific to certain types of programs and will not apply to all grantees. Through the experience of utilizing these measures, we are enhancing them to better reflect program goals. Specifically, additional outcome measures that can be utilized by grantees that predominantly provide infrastructure services are being developed for submission to OMB.

The estimated response burden is as follows:

Form | Number of respondents | Responses per respondent | Total responses | Burden hours per response | Total burden hours
Grant Report | 900 | 1 | 900 | 41 | 36,900
Total | 900 |  | 900 |  | 36,900

Email comments to paperwork@hrsa.gov or mail the HRSA Reports Clearance Officer, Room 10-29, Parklawn Building, 5600 Fishers Lane, Rockville, MD 20857. Written comments should be received within 60 days of this notice.

Dated: July 24, 2012.
Jennifer Riggle,
Deputy Director, Office of Management.

[FR Doc. 2012-18637 Filed 7-30-12; 8:45 am]

BILLING CODE 4165-15-P